Presidential Determination No. 02-19 of May 27, 2002

Presidential Determination on Eligibility of East Timor to Receive Defense Articles and Services Under the Foreign Assistance Act of 1961, as amended, and the Arms Export Control Act

Memorandum for the Secretary of State

Pursuant to the authority vested in me by the laws and Constitution of the United States, including section 503(a) of the Foreign Assistance Act of 1961, as amended, and section 3(a)(1) of the Arms Export Control Act, I hereby find that the furnishing of Defense articles and services to East Timor will strengthen the security of the United States and promote world peace.

You are authorized and directed to report this finding to the Congress and to publish it in the Federal Register.

B

THE WHITE HOUSE,

Washington, May 27, 2002.

[FR Doc. 02-14535

Filed 6-6-02; 8:45 am]

Billing code 4710-10-P